DEPARTMENT OF THE INTERIOR

National Park Service

[NPS-WASO-NRNHL-DTS#-31877; PPWOCRADI0, PCU00RP14.R50000]

National Register of Historic Places; Notification of Pending Nominations and Related Actions

AGENCY: National Park Service, Interior.

ACTION: Notice.

SUMMARY: The National Park Service is soliciting electronic comments on the significance of properties nominated before May 1, 2021, for listing or related actions in the National Register of Historic Places.

DATES: Comments should be submitted electronically by May 26, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before May 1, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Riverside County

Palm Springs Municipal Airport Terminal, 3400 East Tahquitz Canyon Way, Palm Springs, SG100006618

CONNECTICUT

Fairfield County

Whistleville Historic District, Ely and Lexington Aves, Hemlock and Lubrano Pls., Knapp, Kossuth, Laura, Olean, Oxford and Snowden Sts., Norwalk, SG100006641

OHIO

Fairfield County

Dairy Barn-Boys' Industrial School, (Federal and State Correctional Institutions in Ohio MPS), 5900 B.I.S. Rd., Lancaster vicinity, MP100006636

Drill Hall-Boys' Industrial School, (Federal and State Correctional Institutions in Ohio MPS), 5900 B.I.S. Rd., Lancaster vicinity, MP100006637

Ross County

Administration Building-United States Industrial Reformatory, (Federal and State Correctional Institutions in Ohio MPS), 15802 OH 104 North, Chillicothe vicinity, MP100006638

Union County

Harmon Building-Ohio Reformatory for Women, (Federal and State Correctional Institutions in Ohio MPS), 1479 Collins Ave., Marysville, MP100006639

OKLAHOMA

Kay County

Clem and Cliff Filling Station, 220 South 4th St., Ponca City, SG100006622

Collins, Samuel Junior, House, 1204 East Central Ave., Ponca City, SG100006623

Collins, Samuel Senior, House, 1004 East Central Ave., Ponca City, SG100006624

Miller, George and Margaret, House, 1300 South 8th St., Ponca City, SG100006625

Wesleyan Methodist Church, 300 East Brookfield Ave., Ponca City, SG100006626

Oklahoma County

Automobile Alley Historic District (Boundary Increase), North side of 000 Block of NW 6th St., Oklahoma City, BC100006627

Lyons, Sidney and Mary, House and Commercial Historic District, 300-304 NE 3rd St., 316 North Central Ave., Oklahoma City, SG100006628

Whittier School, 1900 NW 10th St., Oklahoma City, SG100006629

Payne County

Lytton Building-Masonic Hall, 907-909 South Main St., Stillwater, SG100006630

Tulsa County

100 Block North Greenwood Avenue Historic District, 100 Block of North Greenwood Ave., Tulsa, SG100006631

Daniel Webster High School Historic District, 1919 West 40th St., Tulsa, SG100006632

Holland Hall Upper School, 5666 East 81st St., Tulsa, SG100006633

RHODE ISLAND

Providence County

Stedman & Fuller Manufacturing Company Complex, 49 Westfield St., Providence, SG100006644

TEXAS

Travis County

Wells, Willie, House, 1705 Newton St., Austin, SG100006621

VERMONT

Addison County

Vergennes Station House, 572 VT 22A, Ferrisburgh, SG100006640

A request for removal has been made for the following resources:

MICHIGAN

Berrien County

Snow Flake Motel, 3822 Red Arrow Hwy., Lincoln Township, OT98000270

NORTH DAKOTA

Grand Forks County

Northwood Bridge, (Historic Roadway Bridges of North Dakota MPS), Across the Goose R., unnamed Cty. Rd., 1.5 mi. SW of Northwood, Northwood vicinity, OT97000175

Additional documentation has been received for the following resource:

NORTH CAROLINA

Wake County

Haywood, Dr. Hubert Benbury and Marguerite Manor, House (Additional Documentation), 634 North Blount St., Raleigh, AD95001440

Nomination submitted by Federal Preservation Officer:

The State Historic Preservation Officer reviewed the following nomination and responded to the Federal Preservation Officer within 45 days of receipt of the nomination and supports listing the property in the National Register of Historic Places.

NORTH DAKOTA

Cass County

Federal Building and U.S. Post Office, 657 2nd Ave. North, Fargo, SG100006635

(Authority: Section 60.13 of 36 CFR part 60)

Dated: May 4, 2021.
Sherry A. Frear,
Chief, National Register of Historic Places/National Historic Landmarks Program.

[FR Doc. 2021-09948 Filed 5-10-21; 8:45 am]

BILLING CODE 4312-52-P